DEPARTMENT OF HOMELAND SECURITY

Citizenship and Immigration Services

Agency Information Collection Activities: Proposed Collection; Comments Requested.

ACTION: 30-Day Notice of Information Collection Under Review: Memorandum of Understanding to Participate in an Employment Eligibility Confirmation Pilot Program (File No. OMB-18).

The Department of Homeland Security (DHS), U.S. Citizenship and Immigration Services (CIS) has submitted the following collection request to the Office of Management and Budget (OMB) for review and approval in accordance with the Paperwork Reduction Act of 1995. The proposed information collection is published to obtain comments from the public and affected agencies. This proposed information collection was previously published in the Federal Register at 68 FR 54912 on September 19, 2003, allowing for a 60-day public review and comment period. No comments were received by the DHS.

A second notice was published in the Federal Register at 68 FR 67464 on December 2, 2003, allowing for an additional 30 days for public review and comment. The second notice incorrectly listed the Immigration and Customs Enforcement (ICE) as the DHS component responsible for this information collection. For administrative reasons pending final organization realignment decisions, the legacy INS Office of Records, which has overall responsibility for the Employment Eligibility Confirmation Pilot Program, was temporarily placed within ICE, as reflected correctly in the September 19 initial notice. In early October, the INS Office of Records was formally transferred to the U.S.. Citizenship and Immigration Services (CIS). Therefore the second notice should have listed the CIS as the DHS component responsible for this information collection. Accordingly, the public has 30-days until January 9, 2004 to submit comments. This process is conducted in accordance with 5 CFR 1320.10. Written comments and/or suggestions regarding the items contained in this notice, especially the estimated public burden and associated time, should be directed to the Office of Management and Budget, Office of Information and Regulatory Affairs, Attention Department of Justice Homeland Security Office, 725—17th Street, NW., Suite 10102, Washington, DC 20503. Additionally, comments may be submitted to OMB via facsimile to (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Overview of this information collection:

(1) Type of Information Collection: Revision of a currently approved collection.

(2) Title of the Form/Collection: Memorandum of Understanding to Participate in an Employment Eligibility Confirmation Pilot Program.

(3) Agency form number, if any, and the applicable component of the Department of Homeland Security sponsoring the collection: No agency form number; File No. OMB-18, SAVE Program, U.S. Citizenship and Immigration Services.

(4) Affected public who will be asked or required to respond, as well as a brief abstract: Individuals or households. Employers electing to participate in a pilot will execute a Memorandum of Understanding with the Department of Homeland Security and the Social Security Administration (if applicable), that provides the specific terms and conditions governing the pilot and company information for each site that will be performing employment verification queries.

(5) An estimate of the total number of respondents and the amount of time estimated for an average respondent to respond: 5,000 responses at 1 hour and 20 minutes (1.33 hours) per response.

(6) An estimate of the total public burden (in hours) associated with the collection: 6,650 hours annually.

If you have additional comments, suggestions, or need a copy of the proposed information collection instrument with instructions, or additional information, please contact Richard A. Sloan, Director, Regulations and Forms Services Division, Department of Homeland Security, 425 I Street, NW., Room 4034, Washington, DC 20536; (202) 514-3291. Comments and suggestions regarding items contained in this notice, especially regarding the estimated pubic burden and associated response time may also be directed to Richard A. Sloan.

If additional information is required contact: Mr. Steve Cooper, PRA Clearance Officer, Department of Homeland Security, Office of Chief Information Officer, Regional Office Building 3, 7th and D Streets, SW., Suite 4636-26, NW., Washington, DC 20202.

Dated: December 4, 2003.
Richard A. Sloan,
Department Clearance Officer, Department of Homeland Security, U.S. Citizenship and Immigration Services.

[FR Doc. 03-30579 Filed 12-9-03; 8:45 am]

BILLING CODE 4410-10-M